FEDERAL COMMUNICATIONS COMMISSION

47 CFR Part 73

Radio Broadcast Services

CFR Correction

In Title 47 of the Code of Federal Regulations, Parts 70 to 79, revised as of October 1, 2000, on page 278, part 73 is corrected by adding § 73.1020 as set forth below:

§ 73.1020 Station license period.

(a) Initial licenses for broadcast stations will ordinarily be issued for a period running until the date specified in this section for the State or Territory in which the station is located. If issued after such date, it will run to the next renewal date determined in accordance with this section. Both radio and TV broadcasting stations will ordinarily be renewed for 8 years. However, if the FCC finds that the public interest, convenience and necessity will be served thereby, it may issue either an initial license or a renewal thereof for a lesser term. The time of expiration of normally issued initial and renewal licenses will be 3 a.m., local time, on the following dates and thereafter at 8-year intervals for radio and TV broadcast stations located in:

(1) Maryland, District of Columbia, Virginia and West Virginia:

(i) Radio stations, October 1, 1995.

(ii) Television stations, October 1, 1996.

(2) North Carolina and South Carolina:

(i) Radio stations, December 1, 1995.

(ii) Television stations, December 1, 1996.

(3) Florida, Puerto Rico and the Virgin Islands:

(i) Radio stations, February 1, 1996.

(ii) Television stations, February 1, 1997.

(4) Alabama and Georgia:

(i) Radio stations, April 1, 1996.

(ii) Television stations, April 1, 1997.

(5) Arkansas, Louisiana and Mississippi:

(i) Radio stations, June 1, 1996.

(ii) Television stations, June 1, 1997.

(6) Tennessee, Kentucky and Indiana:

(i) Radio stations, August 1, 1996.

(ii) Television stations, August 1, 1997.

(7) Ohio and Michigan:

(i) Radio stations, October 1, 1996.

(ii) Television stations, October 1, 1997.

(8) Illinois and Wisconsin:

(i) Radio stations, December 1, 1996.

(ii) Television stations, December 1, 1997.

(9) Iowa and Missouri:

(i) Radio stations, February 1, 1997.

(ii) Television stations, February 1, 1998.

(10) Minnesota, North Dakota, South Dakota, Montana and Colorado:

(i) Radio stations, April 1, 1997.

(ii) Television stations, April 1, 1998.

(11) Kansas, Oklahoma and Nebraska:

(i) Radio stations, June 1, 1997.

(ii) Television stations, June 1, 1998.

(12) Texas:

(i) Radio stations, August 1, 1997.

(ii) Television stations, August 1, 1998.

(13) Wyoming, Nevada, Arizona, Utah, New Mexico and Idaho:

(i) Radio stations, October 1, 1997.

(ii) Television stations, October 1, 1998.

(14) California:

(i) Radio stations, December 1, 1997.

(ii) Television stations, December 1, 1998.

(15) Alaska, American Samoa, Guam, Hawaii, Mariana Islands, Oregon and Washington:

(i) Radio stations, February 1, 1998.

(ii) Television stations, February 1, 1999.

(16) Connecticut, Maine, Massachusetts, New Hampshire, Rhode Island and Vermont:

(i) Radio stations, April 1, 1998.

(ii) Television stations, April 1, 1999.

(17) New Jersey and New York:

(i) Radio stations, June 1, 1998.

(ii) Television stations, June 1, 1999.

(18) Delaware and Pennsylvania:

(i) Radio stations, August 1, 1998.

(ii) Television stations, August 1, 1999.

(b) For the cutoff date for the filing of applications mutually exclusive with renewal applications that are filed on or before May 1, 1995 and for the deadline for filing petitions to deny renewal applications, see § 73.3516(e).

(c) The license of a broadcasting station that fails to transmit broadcast signals for any consecutive 12-month period expires as a matter of law at the end of that period, notwithstanding any provision, term, or condition of the license to the contrary.

(Secs. 4, 5, 303, 48 Stat., as amended, 1066, 1068, 1082 (47 U.S.C. 154, 155, 303))

[49 FR 4382, Feb. 6, 1984, as amended at 52 FR 25604, July 8, 1987; 59 FR 63051, Dec. 7, 1994; 61 FR 18291, Apr. 25, 1996; 61 FR 28767, June 6, 1996; 62 FR 5347, Feb. 5, 1997]

[FR Doc. 01-55508 Filed 3-20-01; 8:45 am]

BILLING CODE 1505-01-D